FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Thursday, November 4, 2010 in the Commission Meeting Room, from 1 p.m. to 4 p.m. at the Federal Communications Commission, 445 12th Street, SW., Washington, DC 20554.

DATES: November 4, 2010.

ADDRESSES: Federal Communications Commission, 445 12th Street, SW., Washington, DC 20554.

FOR FURTHER INFORMATION CONTACT: Walter Johnston, Chief, Electromagnetic Compatibility Division, 202-418-0807; Walter.Johnston@FCC.gov.

SUPPLEMENTARY INFORMATION: At this meeting, the overall objectives of the Technological Advisory Council (TAC) will be described and discussion on the working methods of the TAC will be held. The FCC will attempt to accommodate as many people as possible. However, admittance will be limited to seating availability. Meetings are also broadcast live with open captioning over the internet from the FCC Live Web page at http://www.fcc.gov/live/. The public may submit written comments before the meeting to: Walter Johnston, the FCC's Designated Federal Officer for Technological Advisory Council by e-mail: Walter.Johnston@fcc.gov or U.S. Postal Service Mail (Walter Johnston, Federal Communications Commission, Room 2-A665, 445 12th Street, SW., Washington, DC 20554). Open captioning will be provided for this event. Other reasonable accommodations for people with disabilities are available upon request. Requests for such accommodations should be submitted via e-mail to fcc504@fcc.gov or by calling the Office of Engineering and Technology at 202-418-2470 (voice), (202) 418-1944 (fax). Such requests should include a detailed description of the accommodation needed. In addition, please include your contact information. Please allow at least five days advance notice; last minute requests will be accepted, but may be impossible to fill.

Exceptional Circumstances (notice): The notice of this meeting is being published on less than 15 days notice due to exceptional circumstances. It is critical that the TAC conduct this meeting to organize itself and its subgroups as soon as possible in order to develop recommendations regarding 4G and other broadband technologies that will be deployed beginning next year, as well as developing recommendations more generally for job creation in the broadband sector. However, the only date this year that all TAC members could attend, and at which sufficient meeting space is available at the agency, is November 4th. Failure to meet on this date would push this important meeting back into 2011 and jeopardize the ability of the TAC to fulfill its mission within the time frame sought by the Commission. Recognizing the late Federal Register publication, the agency also issued a Public Notice of this meeting on Monday, October 25th, in an effort to mitigate the late Federal Register publication and as an additional way of advising the public of this meeting and their right to attend.

Federal Communications Commission
Julius P. Knapp,
Chief, Office of Engineering and Technology.

[FR Doc. 2010-27618 Filed 10-29-10; 8:45 am]

BILLING CODE 6712-01-P